DEPARTMENT OF HEALTH AND HUMAN SERVICES

National Institutes of Health

National Cancer Institute Amended; Notice of Meeting

Notice is hereby given of a change in the meeting of the National Cancer Institute Special Emphasis Panel, April 24, 2013, 8:30 a.m.-4:30 p.m., 9000 Rockville Pike, Building 45, Conference Room D, Bethesda, MD 20892 which was published in the Federal Register on March 8, 2013, 78FR15021.

This notice is being amended to change the meeting format from a face to face meeting to a teleconference on Wednesday April 24, 2013, 8:30 a.m.-4:30 p.m. The meeting is closed to the public.

Dated: March 18, 2013.
Melanie J. Gray,
Program Analyst, Office of Federal Advisory Committee Policy.

[FR Doc. 2013-06688 Filed 3-22-13; 8:45 am]

BILLING CODE 4140-01-P